DEPARTMENT OF HOMELAND SECURITY

Coast Guard

[Docket No. USCG-2012-0279]

Notification of the Imposition of Conditions of Entry for Certain Vessels Arriving to the United States From the Republic of Yemen

AGENCY: Coast Guard, DHS.

ACTION: Notice.

SUMMARY: The United States Coast Guard announces that it will impose conditions of entry on vessels arriving from the country of the Republic of Yemen, with the exception of vessels arriving from the Ash Shihr Terminal, the Balhalf LNG Terminal, and the Port of Hodeidah.

DATES: The policy announced in this notice will become effective September 18, 2012.

ADDRESSES: This notice is part of docket USCG-2012-0279 and is available online by going to http://www.regulations.gov, inserting “USCG-2012-0279” in the “Keyword” box, and then clicking “Search.” This material is also available for inspection and copying at the Docket Management Facility (M-30), U.S. Department of Transportation, West Building Ground Floor, Room W12-140, 1200 New Jersey Avenue SE., Washington, DC 20590, between 9 a.m. and 5 p.m., Monday through Friday, except Federal holidays. The telephone number is 202-366-9329. This policy is also available at www.homeport.uscg.mil under the Maritime Security tab; International Port Security Program (ISPS Code); Port Security Advisory link.

FOR FURTHER INFORMATION CONTACT: If you have questions on this notice, call Mr. Michael Brown, International Port Security Evaluation Division, United States Coast Guard, telephone 202-372-1081. If you have questions on viewing or submitting material to the docket, call Renee V. Wright, Program Manager, Docket Operations, telephone 202-366-9826 or (toll free) 1-800-647-5527.

SUPPLEMENTARY INFORMATION:

Background and Purpose

Title 46, Section 70110, United States Code, enacted as part of section 102(a) of the Maritime Transportation Security Act of 2002 (Pub. L. 107-295, Nov. 25, 2002) authorizes the Secretary of Homeland Security to impose conditions of entry on vessels requesting entry into the United States arriving from ports that are not maintaining effective anti-terrorism measures. It also requires public notice of the ineffective anti-terrorism measures. The Secretary has delegated to the United States Coast Guard authority to carry out the provisions of this section. See Department of Homeland Security Delegation No. 0170.1, sec. 97. Previous notices have imposed or removed conditions of entry on vessels arriving from certain countries, and those conditions of entry and the countries they pertain to remain in effect except as modified below. All such notices are available for review online by going to http://homeport.uscg.mil, clicking on the “Maritime Security” and then “International Port Security Program” tabs, and then following the link.

The Coast Guard has determined that ports in the Republic of Yemen are not maintaining effective anti-terrorism measures. Inclusive to this determination is an assessment that the Republic of Yemen presents significant risk of introducing instruments of terror into international maritime commerce. Inclusive to this determination is also an assessment of significant deficiencies in the Republic of Yemen's legal regime, designated authority oversight, access control, and cargo control. The Coast Guard notified the Department of State of these determinations pursuant to 46 U.S.C. 70110(c).

The United States notified the Republic of Yemen of this determination on December 18, 2011, and identified steps necessary to improve the anti-terrorism measures in place at their respective ports (46 U.S.C. 70109(a)). The Republic of Yemen has not offered a response to our communications on this determination. To date, the United States cannot confirm that the identified deficiencies have been corrected.

Accordingly, on September 18, 2012, the Coast Guard will impose certain conditions of entry on vessels that visited ports in the Republic of Yemen, with the exception of vessels arriving from the Ash Shihr Terminal, the Balhalf LNG Terminal, and the Port of Hodeidah, during their last five port calls. Vessels must meet the following conditions of entry:

• Implement measures per the ship's security plan equivalent to Security Level 2 while in a port in the Republic of Yemen. As defined in the ISPS Code and incorporated herein, “Security Level 2” refers to the “level for which appropriate additional protective security measures shall be maintained for a period of time as a result of heightened risk of a security incident.”

• Ensure that each access point to the ship is guarded and that the guards have total visibility of the exterior (both landside and waterside) of the vessel while the vessel is in ports in the Republic of Yemen.

• Guards may be provided by the ship's crew, however additional crewmembers should be placed on the ship if necessary to ensure that limits on maximum hours of work are not exceeded and/or minimum hours of rest are met. Alternatively, security may be provided by outside security forces approved by the ship's master and Company Security Officer. As defined in the ISPS Code and incorporated herein, “Company Security Officer” refers to the “person designated by the Company for ensuring that a ship security assessment is carried out; that a ship security plan is developed, submitted for approval, and thereafter implemented and maintained and for liaison with port facility security officers and the ship security officer.”

• Attempt to execute a Declaration of Security while in port in the Republic of Yemen.

• Log all security actions in the ship's log.

• Report actions taken to the cognizant Coast Guard Captain of the Port prior to arrival into U.S. waters.

• Based on the findings of the Coast Guard boarding or examination, vessels may be required to ensure that each access point to the ship is guarded by armed, private security guards and that they have total visibility of the exterior (both landside and waterside) of the vessel while in U.S. ports. The number and position of the guards must be acceptable to the cognizant Coast Guard Captain of the Port prior to the vessel's arrival.

With this notice, the current list of countries not maintaining effective anti-terrorism measures is as follows: Cambodia, Cameroon, Comoros, Cote d'Ivoire, Cuba, Equatorial Guinea, Guinea-Bissau, Indonesia, Iran, Liberia, Madagascar, Sao Tome and Principe, Syria, Timor-Leste, Venezuela, and Yemen. This current list is also available in the policy notice available on the Homeport system as described in the ADDRESSES section above.

This notice is issued under authority of 46 U.S.C. 70110(a)(3).

Dated: August 20, 2012.
Peter V. Neffenger,
USCG, Deputy Commandant for Operations.

[FR Doc. 2012-21715 Filed 8-31-12; 8:45 am]

BILLING CODE 9110-04-P